DEPARTMENT OF LABOR

Employment and Training Administration

Workforce Information Advisory Council

AGENCY: Employment and Training Administration, Labor.

ACTION: Request for nominations for membership on the Workforce Information Advisory Council.

SUMMARY: The Department of Labor invites interested parties to submit nominations for individuals to serve on the Workforce Information Advisory Council (WIAC) and announces the procedures for those nominations. From the nominations received, the Department will fill all 14 slots on the Council. Information regarding the WIAC can be found at https://www.doleta.gov/wioa/wiac/.

DATES: Nominations for individuals to serve on the WIAC must be submitted (postmarked, if sending by mail; submitted electronically; or received, if hand delivered) by February 11, 2019.

ADDRESSES: You may submit nominations and supporting materials described in this Federal Register Notice by any one of the following methods:

Electronically: Submit nominations, including attachments, by email using the following address: WIAC@dol.gov (use subject line “Nomination—Workforce Information Advisory Council”).

Mail, express delivery, hand delivery, messenger, or courier service: Submit one copy of the nominations and supporting materials to the following address: Workforce Information Advisory Council Nominations, Office of Workforce Investment, U.S. Department of Labor, 200 Constitution Ave. NW, Room C-4526, Washington, DC 20210. Deliveries by hand, express mail, messenger, and courier service are accepted by the Office of Workforce Investment during the hours of 9:00 a.m.-5:00 p.m., EST, Monday through Friday. Due to security-related procedures, submissions by regular mail may experience significant delays.

Facsimile: The Department will not accept nominations submitted by fax.

FOR FURTHER INFORMATION CONTACT: Steve Rietzke, Division of National Programs, Tools, and Technical Assistance, Office of Workforce Investment (address above); by telephone at (202) 693-3912 (this is not toll-free numbers) or by email at WIAC@dol.gov.

SUPPLEMENTARY INFORMATION: Section 15 of the Wagner-Peyser Act, 29 U.S.C. 49l-2, as amended by section 308 of the Workforce Innovation and Opportunity Act of 2014 (WIOA), Public Law 113-128, requires the Secretary of Labor (Secretary) to establish a WIAC.

The statute, as amended, requires the Secretary, acting through the Commissioner of Labor Statistics and the Assistant Secretary for Employment and Training, to formally consult at least twice annually with the WIAC to address: (1) Evaluation and improvement of the nationwide workforce and labor market information system established by the Wagner-Peyser Act, and of the statewide systems that comprise the nationwide system, and (2) how the Department of Labor and the States will cooperate in the management of those systems. The Secretary, acting through the Bureau of Labor Statistics (BLS) and the Employment and Training Administration (ETA), and in consultation with the WIAC and appropriate federal agencies, must also develop a two-year plan for management of the labor market information system. The statute generally prescribes how the plan is to be developed and implemented, outlines the contents of the plan, and requires the Secretary to submit the plan to designated authorizing committees in the House and Senate.

By law, the Secretary must “seek, review, and evaluate” recommendations from the WIAC, and respond in writing to the Council. The WIAC must make written recommendations to the Secretary on the evaluation and improvement of the workforce and labor market information system, including recommendations for the 2-year plan. The 2-year plan, in turn, must describe WIAC recommendations and the extent to which the plan incorporates them.

The Department anticipates that the WIAC will accomplish its objectives by, for example: (1) Studying workforce and labor market information issues; (2) seeking and sharing information on innovative approaches, new technologies, and data to inform employment, skills training, and workforce and economic development decision making and policy; and (3) advising the Secretary on how the workforce and labor market information system can best support workforce development, planning, and program development.

Pertinent information about the WIAC, including recommendations, reports, background information, agendas, and meeting minutes, can be accessed at the WIAC's website located at https://www.doleta.gov/wioa/wiac/.

The Wagner-Peyser Act, at section 15(d)(2)(B), requires the WIAC to have 14 members, appointed by the Secretary, consisting of:

(1) Four members who are representatives of lead State agencies with responsibility for workforce investment activities, or State agencies described in Wagner-Peyser Act section 4 (agency designated or authorized by Governor to cooperate with the Secretary of Labor), who have been nominated by such agencies or by a national organization that represents such agencies;

(2) Four members who are representatives of the State workforce and labor market information directors affiliated with the State agencies responsible for the management and oversight of the workforce and labor market information system as described in Wagner-Peyser Act Section 15(e)(2), who have been nominated by the directors;

(3) One member who is a representative of providers of training services under WIOA section 122 (Identification of Eligible Providers of Training Services);

(4) One member who is a representative of economic development entities;

(5) One member who is a representative of businesses, who has been nominated by national business organizations or trade associations;

(6) One member who is a representative of labor organizations, who has been nominated by a national labor federation;

(7) One member who is a representative of local workforce development boards, who has been nominated by a national organization representing such boards; and

(8) One member who is a representative of research entities that use workforce and labor market information.

The Secretary must ensure that the membership of the WIAC is geographically diverse, and that no two members appointed under clauses (1), (2), and (7), above, represent the same State. Each member will be appointed for a term that may be 2 or 3 years in order to establish a rotation of the members. The Secretary will not appoint a member for any more than two consecutive terms, which allows all current WIAC members to be re-nominated if they still meet all of the other membership requirements.

Any member whom the Secretary appoints to fill a vacancy occurring before the expiration of the predecessor's term will be appointed only for the remainder of that term. Members of the Council will serve on a voluntary and generally uncompensated basis, but will be reimbursed for travel expenses to attend WIAC meetings, including per diem in lieu of subsistence, as authorized by the Federal travel regulations.

The WIAC is a permanent advisory council and, as such, is not governed by the Federal Advisory Committee Act's (FACA) Section 14, on termination of advisory committees. In other respects, however, WIAC membership will be consistent with the FACA requirement that membership be “fairly balanced in terms of the points of view represented and the functions to be performed” (5 U.S.C. App. 5(b)(2)), as specified in Wagner-Peyser section 15(2)(B) & (C), and the requirement that members come from “a cross-section of those directly affected, interested, and qualified, as appropriate to the nature and functions” of the WIAC (41 CFR 102-3.60(b)(3)). Under the FACA regulation, the composition of the WIAC will, therefore, depend upon several factors, including: (i) The WIAC's mission; (ii) the geographic, ethnic, social, economic, or scientific impact of the WIAC's recommendations; (iii) the types of specific perspectives required; (iv) the need to obtain divergent points of view on the issues before the WIAC, such as those of consumers, technical experts, the public at large, academia, business, or other sectors; and (v) the relevance of State, local, or tribal governments to the development of the WIAC's recommendations (41 CFR 102-3, Subpart B, Appendix A.).

To the extent permitted by FACA and other applicable laws, WIAC membership should also be consistent with achieving the greatest impact, scope, and credibility among diverse stakeholders. The diversity in such membership includes, but is not limited to, race, gender, disability, sexual orientation, and gender identity.

Nominations Process: During the nominations period, any interested person or organization may nominate one or more qualified individuals for membership. If you would like to nominate an individual or yourself for appointment to the WIAC, please submit, to one of the addresses listed below, the following information:

• A copy of the nominee's resume or curriculum vitae;

• A cover letter that provides your reason(s) for nominating the individual, the constituency area that they represent (as outlined above in the WIAC membership identification discussion), and their particular expertise for contributing to the national policy discussion on: (1) The evaluation and improvement of the nationwide workforce and labor market information system and statewide systems that comprise the nationwide system, and (2) how the Department of Labor and the States will cooperate in the management of those systems, including programs that produce employment-related statistics and State and local workforce and labor market information; and

• Contact information for the nominee (name, title, business address, business phone, fax number, and business email address).

In addition, the cover letter must state the nomination is being made in response to this Federal Register Notice and the nominee (if nominating someone other than oneself) has agreed to be nominated and is willing to serve on the WIAC. Nominees will be appointed based on their qualifications, professional experience, and demonstrated knowledge of issues related to the purpose and scope of the WIAC, as well as diversity considerations. The Department will publish a list of the new WIAC members on the WIAC's website at https://www.doleta.gov/wioa/wiac/.

Authority: Pursuant to the Wagner-Peyser Act of 1933, as amended, 29 U.S.C. 49 et seq.; Workforce Innovation and Opportunity Act, Pub. L. 113-128; Federal Advisory Committee Act, as amended, 5 U.S.C. App.

Molly E. Conway,
Acting Assistant Secretary.

[FR Doc. 2018-26928 Filed 12-12-18; 8:45 am]

BILLING CODE P